DEPARTMENT OF TRANSPORTATION

Federal Aviation Administration

Notice of Opportunity for Public Comment on Surplus Property Release at Aiken Municipal Airport, Aiken, SC

AGENCY: Federal Aviation Administration (FAA), DOT.

ACTION: Notice.

SUMMARY: Under the provisions of Title 49, U.S.C. 47153(c), notice is being given that the FAA is considering a request from the City of Aiken to waive the requirement that approximately 94 acres of surplus property, located at the Aiken Municipal Airport, be used for aeronautical purposes.

DATES: Comments must be received on or before January 13, 2006.

ADDRESSES: Comments on this notice may be mailed or delivered in triplicate to the FAA at the following address: Atlanta Airports District Office, Attn: Paul Lo, Program Manager, 1701 Columbia Ave., Suite 2-260, Atlanta, GA 30337-2747.

In addition, one copy of any comments submitted to the FAA must be mailed or delivered to Larry G. Morris, P.E., Public Works Director of the City of Aiken at the following address: City of Aiken, Post Office Box 1177, Aiken, SC 29802.

FOR FURTHER INFORMATION CONTACT: Paul Lo, Program Manager, Atlanta Airports District Office, 1701 Columbia Ave., Suite 2-260, Atlanta, GA 30337-2747, (404) 305-7145. The application may be reviewed in person at this same location.

SUPPLEMENTARY INFORMATION: The FAA is reviewing a request by the City of Aiken to release approximately 94 acres of surplus property at the Aiken Municipal Airport. The property consists of several parcels roughly located East of Palmetto Farms Road, North of Reynolds Pond Road, and to the West of U.S. Highway 1. This property is currently shown on the approved Airport Layout Plan as aeronautical use land; however the property is currently not being used for aeronautical purposes and the proposed use of this property is compatible with airport operations. The City will ultimately sell lots on the property for future industrial and commercial use with proceeds of the sale providing funding for future airport development.

Any person may inspect the request in person at the FAA office listed above under FOR FURTHER INFORMATION CONTACT. In addition, any person may, upon request, inspect the request, notice and other documents germane to the request in person at the Aiken Municipal Airport.

Issued in Atlanta, Georgia on December 6, 2005.
Scott L. Seritt,
Manager, Atlanta Airports District Office, Southern Region.

[FR Doc. 05-24002 Filed 12-13-05; 8:45 am]

BILLING CODE 4910-13-M